DEPARTMENT OF ENERGY

Federal Energy Regulatory Commission

[Docket No. RP04-318-000]

Great Lakes Gas Transmission Limited Partnership; Notice of Tariff Filing

June 3, 2004.

Take notice that on May 28, 2004, Great Lakes Gas Transmission Limited Partnership (Great Lakes) tendered for filing as part of its FERC Gas Tariff, Second Revised Volume No. 1, the following tariff sheets, proposed to be effective July 1, 2004:

Sixteenth Revised Sheet No. 1;

Fourth Revised Sheet No. 50A;

Second Revised Sheet No. 50B;

Sixth Revised Sheet No. 84 ; and

Third Revised Sheet No. 86A.

Great Lakes states that these tariff sheets are being filed to add a provision to Great Lakes' tariff specifying types of discounts that will not be considered as material deviations from Great Lakes' pro forma service agreements. Great Lakes states that none of the proposed changes will affect any of its currently effective rates and charges.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1301 Filed 6-9-04; 8:45 am]

BILLING CODE 6717-01-P